DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on October 22, 2025. See Supplementary Information section for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On October 22, 2025, OFAC determined that the property and interests in property subject to U.S. jurisdiction of the following persons are blocked under the relevant sanctions authorities listed below.

Entities

1. LIMITED LIABILITY COMPANY LUKOIL PERM (a.k.a. LUKOIL PERM), Ul. Lenina D. 62, Perm 614990, Russia; Secondary sanctions risk: See Section 11 of Executive Order 14024.; Tax ID No. 5902201970 (Russia); Registration Number 1035900103997 (Russia) [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) as amended by Executive Order 14114 of December 22, 2023, “Taking Additional Steps With Respect to the Russian Federation's Harmful Activities,” 88 FR 89271, 3 CFR, 2023 Comp., p. 721 (Dec. 22, 2023) (E.O. 14114) for operating or having operated in the energy sector of the Russian Federation economy.

2. LUKOIL AIK A LIMITED LIABILITY COMPANY (a.k.a. LUKOIL AIK), Ul. Mira D. 23 A, Kogalym 628484, Russia; Secondary sanctions risk: See Section 11 of Executive Order 14024.; Tax ID No. 8608059605 (Russia); Registration Number 1178617009251 (Russia) [RUSSIA-EO14024]. Designated pursuant to section 1(a)(i) of E.O. 14024 for operating or having operated in the energy sector of the Russian Federation economy.

3. LUKOIL KALININGRADMORNEFT (a.k.a. LUKOIL KMN), Ul. Kievskaya D. 23, Kaliningrad 236039, Russia; Secondary sanctions risk: See Section 11 of Executive Order 14024.; Tax ID No. 3900004998 (Russia); Registration Number 1023901643061 (Russia) [RUSSIA-EO14024].

Designated pursuant to section 1(a)(i) of E.O. 14024 for operating or having operated in the energy sector of the Russian Federation economy.

4. LUKOIL WEST SIBERIA LIMITED (a.k.a. LUKOIL ZAPADNAYA SIBIR), Ul. Pribaltiiskaya D. 20, Kogalym 628484, Russia; Secondary sanctions risk: See Section 11 of Executive Order 14024.; Tax ID No. 8608048498 (Russia); Registration Number 1028601441978 (Russia) [RUSSIA-EO14024].

Designated pursuant to section 1(a)(i) of E.O. 14024 for operating or having operated in the energy sector of the Russian Federation economy.

5. RUSSIAN INNOVATION FUEL AND ENERGY COMPANY (a.k.a. OBSHCHESTVO S OGRANICHENNOI OTVETSTVENNOSTYU ROSSISKAYA INNOVATSIONNAYA TOPLIVNO ENERGETICHESKAYA KOMPANIYA; a.k.a. OOO RITEK), 120A, Ul. Leninskaya, Samara 443041, Russia; 85 Lesogorskaya st, Volgograd, Russia; Secondary sanctions risk: See Section 11 of Executive Order 14024.; Tax ID No. 6317130144 (Russia); Registration Number 1186313094681 (Russia) [RUSSIA-EO14024].

Designated pursuant to section 1(a)(i) of E.O. 14024 for operating or having operated in the energy sector of the Russian Federation economy.

6. URALOIL, Ul. Sibirskaya D. 4, Perm 614000, Russia; Secondary sanctions risk: See Section 11 of Executive Order 14024.; Tax ID No. 5902040755 (Russia); Registration Number 1166313158439 (Russia) [RUSSIA-EO14024].

Designated pursuant to section 1(a)(i) of E.O. 14024 for operating or having operated in the energy sector of the Russian Federation economy.

7. JOINT STOCK COMPANY RYAZAN OIL REFINERY COMPANY (a.k.a. RYAZAN OIL REFINING COMPANY JOINT STOCK COMPANY; a.k.a. “AO RNPK”; a.k.a. “JSC RORC”), Yuzhnyi Promuzel D. 8, Ryazan 390011, Russia; Secondary sanctions risk: See Section 11 of Executive Order 14024.; Tax ID No. 6227007322 (Russia); Registration Number 1026200870321 (Russia) [RUSSIA-EO14024]. Designated pursuant to section 1(a)(i) of E.O. 14024 for operating or having operated in the energy sector of the Russian Federation economy.

8. OJSC ACHINSK REFINERY (a.k.a. ACHINSK OIL REFINERY OF THE EASTERN OIL COMPANY; a.k.a. ACHINSK REFINERY; a.k.a. JOINT STOCK COMPANY ACHINSK REFINERY OF EASTERN PETROLEUM COMPANY; a.k.a. JSC ACHINSK OIL REFINERY VNK; a.k.a. OAO ACHINSK OIL REFINERY VNK; a.k.a. “JSC ANPZ VNK”), Achinsk Refinery industrial area, Bolsheuluisky district, Krasnoyarsk territory 662110, Russia; Email Address sekr1@anpz.rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 2443000518 (Russia); Registration Number 1022401153532 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

9. OJSC NOVOKUYBYSHEV REFINERY (a.k.a. NOVOKUIBYSHEVSK REFINERY; a.k.a. OJSC NOVOKUYBYSHEV REFINERY), Ul. Osipenko D. 12, Str. 1, Novokuybyshevsk, Samara Region 446207, Russia; Email Address sekr@nknpz.rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 6330000553 (Russia); Registration Number 1026303118126 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

10. OJSC SYZRAN REFINERY (a.k.a. OPEN JOINT-STOCK OIL AND GAS COMPANY SYZRAN; a.k.a. SYZRAN REFINERY; a.k.a. “OAO SNPS”), 1 Astrakhanskaya st., Syzran, Samara region 446009, Russia; Moskvorechje street 105, Building 8, Moscow 115523, Russia; Email Address sekr@snpz.rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 6325004584 (Russia); Registration Number 1026303056823 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

11. RN KOMSOMOLSKIY REFINERY LLC (a.k.a. KOMSOMOLSK REFINERY; a.k.a. LLC RN KOMSOMOLSKIY NPZ; a.k.a. LLC RN-KOMSOMOLSK REFINERY; a.k.a. RN-KOMSOMOLSKI NPZ OOO), 115 Leningradskaya st., Komsomolsk-on-Amur, Khabarovsk region 681007, Russia; Email Address knpz@rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 2703032881 (Russia); Registration Number 1052740255358 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

12. AKTSIONERNOE OBSHCHESTVO KUIBYSHEVSKII NEFTEPERERABATYVAYUSHCHII ZAVOD (a.k.a. JSC KUYBYSHEVSKY OIL REFINERY; a.k.a. KUIBYSHEVSKY REFINERY; a.k.a. “AO KNPZ”), Ul. Groznenskaya D.25, Samara 443004, Russia; Secondary sanctions risk: See Section 11 of Executive Order 14024.; Tax ID No. 6314006396 (Russia); Registration Number 1026300894179 (Russia) [RUSSIA-EO14024].

Designated pursuant to section 1(a)(i) of E.O. 14024 for operating or having operated in the energy sector of the Russian Federation economy.

13. LIMITED LIABILITY COMPANY RN TUAPSE OIL REFINERY, Ul. Sochinskaya D.1, Tuapse 352800, Russia; Secondary sanctions risk: See Section 11 of Executive Order 14024.; Tax ID No. 2365004375 (Russia); Registration Number 1052313098683 (Russia) [RUSSIA-EO14024].

Designated pursuant to section 1(a)(i) of E.O. 14024 for operating or having operated in the energy sector of the Russian Federation economy.

14. PUBLIC JOINT STOCK COMPANY SARATOV OIL REFINERY (a.k.a. PUBLICHNOE AKTSIONERNOE OBSCHESTVO SARATOVSKIY NEFTEPERERABATYVAYUSCHYI ZAVOD; a.k.a. SARATOVSKY REFINERY PJSC), 1 Bryanskaya Street, Saratov 410022, Russia; Secondary sanctions risk: See Section 11 of Executive Order 14024.; Tax ID No. 6451114900 (Russia); Registration Number 1026402483810 (Russia) [RUSSIA-EO14024].

Designated pursuant to section 1(a)(i) of E.O. 14024 for operating or having operated in the energy sector of the Russian Federation economy.

15. JOINT STOCK COMPANY EAST SIBERIAN OIL AND GAS COMPANY (a.k.a. AO VOSTSIBNEFTEGAZ; a.k.a. JSC VOSTSIBNEFTEGAZ), Pr-Kt Mira D. 36, Krasnoyarsk 660049, Russia; Secondary sanctions risk: See Section 11 of Executive Order 14024.; Tax ID No. 7710007910 (Russia); Registration Number 1028800000855 (Russia) [RUSSIA-EO14024].

Designated pursuant to section 1(a)(i) of E.O. 14024 for operating or having operated in the energy sector of the Russian Federation economy.

16. JOINT STOCK COMPANY GROZNEFTEGAZ, Ul. Im S. SH. Lorsanova D. 2A, Grozny 364024, Russia; Secondary sanctions risk: See Section 11 of Executive Order 14024.; Tax ID No. 2020003571 (Russia); Registration Number 1022002543144 (Russia) [RUSSIA-EO14024].

Designated pursuant to section 1(a)(i) of E.O. 14024 for operating or having operated in the energy sector of the Russian Federation economy.

17. JOINT STOCK COMPANY ROSPAN INTERNATIONAL, Ul. Geologorazvedchikov D. 16V, Novyy Urengoy 629306, Russia; Secondary sanctions risk: See Section 11 of Executive Order 14024.; Tax ID No. 7727004530 (Russia); Registration Number 1027739465632 (Russia) [RUSSIA-EO14024].

Designated pursuant to section 1(a)(i) of E.O. 14024 for operating or having operated in the energy sector of the Russian Federation economy.

18. JOINT STOCK COMPANY SAMARANEFTEGAS (a.k.a. AO SAMARANEFTEGAZ), Pr. Volzhskii D. 50, Samara 443071, Russia; Secondary sanctions risk: See Section 11 of Executive Order 14024.; Tax ID No. 6315229162 (Russia); Registration Number 1026300956990 (Russia) [RUSSIA-EO14024].

Designated pursuant to section 1(a)(i) of E.O. 14024 for operating or having operated in the energy sector of the Russian Federation economy.

19. LIMITED LIABILITY COMPANY RN KRASNODARNEFTEGAZ, Ul. Kubanskaya Naberezhnaya D. 47, Krasnodar 350000, Russia; Secondary sanctions risk: See Section 11 of Executive Order 14024.; Tax ID No. 2309095298 (Russia); Registration Number 1052304983785 (Russia) [RUSSIA-EO14024].

Designated pursuant to section 1(a)(i) of E.O. 14024 for operating or having operated in the energy sector of the Russian Federation economy.

20. LIMITED LIABILITY COMPANY RN PURNEFTEGAZ, MKR 10-I D.3, Gubkinskiy 629830, Russia; Secondary sanctions risk: See Section 11 of Executive Order 14024.; Tax ID No. 8913006455 (Russia); Registration Number 1058901407707 (Russia) [RUSSIA-EO14024].

Designated pursuant to section 1(a)(i) of E.O. 14024 for operating or having operated in the energy sector of the Russian Federation economy.

21. OJSC ORENBURGNEFT (a.k.a. OAO JSC ORENBURGNEFT; a.k.a. ORENBURGNEFT), St. Magistralynaya 2, Buzuluk 461040, Russia; Email Address orenburgneft@rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 5612002469 (Russia); Registration Number 1025601802357 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

22. OJSC SAMOTLORNEFTEGAZ (a.k.a. SAMOTLORNEFTEGAZ; a.k.a. SAMOTLORNEFTEGAZ JSC), Lenina St. 4, the Tyumen Region, Khanty-Mansiysk, Autonomous District, Nizhnevartovsk 628606, Russia; Ul. Lenina D. 4, Nizhnevartovsk 628600, Russia; Email Address NVSNGinfo@rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 8603089934 (Russia); Registration Number 1028600940576 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

23. PJSC VERKHNECHONSKNEFTEGAZ (a.k.a. AO VCHNG; a.k.a. OJSC VERKHNECHONSKNEFTEGAZ; a.k.a. VERKHNECHONSKNEFTEGAZ), Baikalskaya St., 295 B, Irkutsk 664050, Russia; Pr-Kt Bolshoi Liteinyi D. 3, Irkutsk 664007, Russia; Email Address vcng@rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 3808079367 (Russia); Registration Number 1023801017580 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

24. RN UVATNEFTEGAZ, Ul. Lenina D. 67, Floor 5, Tyumen 625000, Russia; Ul. Irtyshskaya D. 19, Uvat 626170, Russia; Secondary sanctions risk: See Section 11 of Executive Order 14024.; Tax ID No. 7225003194 (Russia); Registration Number 1027201295395 (Russia) [RUSSIA-EO14024].

Designated pursuant to section 1(a)(i) of E.O. 14024 for operating or having operated in the energy sector of the Russian Federation economy.

25. AO SIBNEFTEGAZ (a.k.a. SIBNEFTEGAZ), UL. Taezhnaya D. 78 A, Novyy Urengoy 629305, Russia; Secondary sanctions risk: See Section 11 of Executive Order 14024.; Tax ID No. 8904005920 (Russia); Registration Number 1028900619835 (Russia) [RUSSIA-EO14024].

Designated pursuant to section 1(a)(i) of E.O. 14024 for operating or having operated in the energy sector of the Russian Federation economy.

26. BASHNEFT DOBYCHA, UL. Karla Marksa D. 30, K. 1, Ufa 450077, Russia; Secondary sanctions risk: See Section 11 of Executive Order 14024.; Tax ID No. 0277106840 (Russia); Registration Number 1090280032699 (Russia) [RUSSIA-EO14024].

Designated pursuant to section 1(a)(i) of E.O. 14024 for operating or having operated in the energy sector of the Russian Federation economy.

27. CJSC VANKORNEFT (a.k.a. VANKORNEFT; a.k.a. ZAO VANKORNEFT), Dobrovolcheskoy Brigady St., 15, Krasnoyarsk Territory 660077, Russia; Ul. 78 Dobrovolcheskoi Brigady D. 15, Pervaya Bashnya, Floor 9, Krasnoyarsk 660077, Russia; Ul. Shadrina A.E. D. 20, Turukhansk 663230, Russia; Email Address info@vankoroil.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 2437261631 (Russia); Registration Number 1042400920077 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

28. JSC RN NYAGANNEFTEGAZ (a.k.a. AO RN NYAGANNEFTEGAZ), Ul. Sibirskaya D. 10, Korp. 1, Nyagan 628183, Russia; Secondary sanctions risk: See Section 11 of Executive Order 14024.; Tax ID No. 8610010727 (Russia); Registration Number 1028601496725 (Russia) [RUSSIA-EO14024].

Designated pursuant to section 1(a)(i) of E.O. 14024 for operating or having operated in the energy sector of the Russian Federation economy.

29. KHARAMPURNEFTEGAZ, UL. 1 Panel D. 3, Proizvodstvennaya Baza 0028, Floor 2 Kabinet 9, Gubkinskiy 629830, Russia; Secondary sanctions risk: See Section 11 of Executive Order 14024.; Tax ID No. 7536125117 (Russia); Registration Number 1127536001262 (Russia) [RUSSIA-EO14024].

Designated pursuant to section 1(a)(i) of E.O. 14024 for operating or having operated in the energy sector of the Russian Federation economy.

30. LIMITED LIABILITY COMPANY BASHNEFT POLUS (a.k.a. OOO BASHNEFT POLUS), Ul. Chernyshevskogo D. 60, Ufa 450076, Russia; Ul. Im V.I. Lenina D.31, Nar'Yan-Mar 166000, Russia; Secondary sanctions risk: See Section 11 of Executive Order 14024.; Tax ID No. 2983998001 (Russia); Registration Number 1108383000549 (Russia) [RUSSIA-EO14024].

Designated pursuant to section 1(a)(i) of E.O. 14024 for operating or having operated in the energy sector of the Russian Federation economy.

31. LIMITED LIABILITY COMPANY KYNSKO CHASELSKOE NEFTEGAZ, Ul. 50 Let Oktyabrya D. 14, Floor 15 Office 42, Tyumen 625048, Russia; Secondary sanctions risk: See Section 11 of Executive Order 14024.; Tax ID No. 7705856587 (Russia); Registration Number 5087746092451 (Russia) [RUSSIA-EO14024].

Designated pursuant to section 1(a)(i) of E.O. 14024 for operating or having operated in the energy sector of the Russian Federation economy.

32. PUBLICHNOE AKTSIONERNOE OBSCHESTVO UDMURTNEFT IMENI VI KUDINOVA, 182, Red Army Street, Udmurtia, Izhevsk 426057, Russia; Secondary sanctions risk: See Section 11 of Executive Order 14024.; Tax ID No. 1831034040 (Russia); Registration Number 1021801147774 (Russia) [RUSSIA-EO14024].

Designated pursuant to section 1(a)(i) of E.O. 14024 for operating or having operated in the energy sector of the Russian Federation economy.

33. RN-YUGANSKNEFTEGAZ LLC (a.k.a. RN-YUGANSKNEFTEGAZ OOO; a.k.a. YUGANSKNEFTEGAZ), Lenina St., 26, Nefteyugansk, Tyumen Region 628309, Russia; Email Address rn_yng@yungjsc.com; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Tax ID No. 8604035473 (Russia); Registration Number 1058602819538 (Russia); For more information on directives, please visit the following link: http://www.treasury.gov/resource-center/sanctions/Programs/Pages/ukraine.aspx#directives. [UKRAINE-EO13662] [RUSSIA-EO14024] (Linked To: OPEN JOINT-STOCK COMPANY ROSNEFT OIL COMPANY).

Designated pursuant to section 1(a)(i) of E.O. 14024 for operating or having operated in the energy sector of the Russian Federation economy.

34. TAAS YURYAKH NEFTEGAZODOBYCHA LLC, UL. Pervomaiskaya D.32 A, Lensk 678144, Russia; Secondary sanctions risk: See Section 11 of Executive Order 14024.; Tax ID No. 1433015633 (Russia); Registration Number 1021400967532 (Russia) [RUSSIA-EO14024].

Designated pursuant to section 1(a)(i) of E.O. 14024 for operating or having operated in the energy sector of the Russian Federation economy.

35. OPEN JOINT-STOCK COMPANY ROSNEFT OIL COMPANY (a.k.a. OAO ROSNEFT OIL COMPANY; a.k.a. OIL COMPANY ROSNEFT; a.k.a. OJSC ROSNEFT OIL COMPANY; a.k.a. ROSNEFT; a.k.a. ROSNEFT OIL COMPANY), 26/1 Sofiyskaya Embankment, Moscow 115035, Russia; website www.rosneft.com; alt. website www.rosneft.ru; Email Address postman@rosneft.ru; Executive Order 13662 Directive Determination—Subject to Directive 2; alt. Executive Order 13662 Directive Determination—Subject to Directive 4; Secondary sanctions risk: Ukraine-/Russia-Related Sanctions Regulations, 31 CFR 589.201 and/or 589.209; alt. Secondary sanctions risk: See Section 11 of Executive Order 14024.; Registration ID 1027700043502 (Russia); Tax ID No. 7706107510 (Russia); Government Gazette Number 00044428 (Russia); For more information on directives, please visit the following link: http://www.treasury.gov/resource-center/sanctions/Programs/Pages/ukraine.aspx#directives. [UKRAINE-EO13662] [RUSSIA-EO14024].

Designated pursuant to section 1(a)(i) of E.O. 14024 for operating or having operated in the energy sector of the Russian Federation economy.

36. LUKOIL OAO (a.k.a. LUKOIL (Cyrillic: ЛУКОЙЛ); a.k.a. LUKOIL OIL COMPANY; a.k.a. NEFTYANAYA KOMPANIYA LUKOIL OOO; a.k.a. NK LUKOIL OAO; a.k.a. PUBLIC JOINT-STOCK COMPANY OIL COMPANY LUKOIL (Cyrillic: ПУБЛИЧНОЕ АКЦИОНЕРНОЕ ОБЩЕСТВО НЕФТЯНАЯ КОМПАНИЯ ЛУКОЙЛ)), 11 Sretenski boulevard, Moscow 101000, Russia; website www.lukoil.ru; Email Address info@lukoil.ru; Executive Order 13662 Directive Determination—Subject to Directive 4; Secondary sanctions risk: Ukraine-/Russia-Related Sanctions Regulations, 31 CFR 589.201 and/or 589.209; alt. Secondary sanctions risk: See Section 11 of Executive Order 14024.; Registration ID 1027700035769 (Russia); Tax ID No. 7708004767 (Russia); Government Gazette Number 00044434 (Russia); Legal Entity Number 549300LCJ1UJXHYBWI24; For more information on directives, please visit the following link: http://www.treasury.gov/resource-center/sanctions/Programs/Pages/ukraine.aspx#directives. [UKRAINE-EO13662] [RUSSIA-EO14024].

Designated pursuant to section 1(a)(i) of E.O. 14024 for operating or having operated in the energy sector of the Russian Federation economy.

Bradley T. Smith,
Director, Office of Foreign Assets Control.

[FR Doc. 2026-01060 Filed 1-20-26; 8:45 am]

BILLING CODE 4810-AL-P